DEPARTMENT OF TRANSPORTATION

Federal Aviation Administration

FAA Approval of Noise Compatibility Program, 14 CFR Part 150; Greater Rockford Airport, Rockford, IL

AGENCY: Federal Aviation Administration, DOT.

ACTION: Notice.

SUMMARY: The Federal Aviation Administration (FAA) announces its findings on the noise compatibility program (NCP) submitted by Greater Rockford Airport Authority (GRAA) under the provisions of 49 U.S.C. (the Aviation Safety and Noise Abatement Act, hereinafter referred to as “the Act”) and 14 CFR part 150. These findings are made in recognition of the description of Federal and non-Federal responsibilities in Senate Report No. 96-52 (1980). On May, 2003, the FAA determined that the noise exposure maps submitted by GRAA under part 150 were in compliance with applicable requirements. On November 3, 2003, the FAA approved the GRAA NCP. All of the recommendations of the program were approved.

EFFECTIVE DATE: The effective date of the FAA's approval of the Greater Rockford Airport noise compatibility program is November 3, 2003.

FOR FURTHER INFORMATION CONTACT: E. Lindsay Butler, Environmental Program Manager, 2300 East Devon Avenue, Des Plaines, Illinois 60018. Telephone Number (847) 294-7723 FAX number (847) 294-7046. Documents reflecting this FAA action may be reviewed at this same location.

SUPPLEMENTARY INFORMATION: This notice announces that the FAA has given its overall approval to the noise compatibility program for the Greater Rockford Airport, effective November 3, 2003.

Under section 47504 of the Act, an airport operator who has previously submitted a noise exposure map may submit to the FAA an NCP which sets forth the measures taken or proposed by the airport operator for the reduction of existing non-compatible land uses and prevention of additional non-compatible land uses within the area covered by the noise exposure maps. The Act requires such programs to be developed in consultation with interested and affected parties including local communities, government agencies, airport users, and FAA personnel.

Each airport NCP developed in accordance with Federal Aviation Regulations (FAR) part 150 is a local program, not a Federal program. The FAA does not substitute its judgment for that of the airport proprietor with respect to which measures should be recommended for action. The FAA's approval or disapproval of FAR part 150 program recommendations is measured according to the standards expressed in part 150 and the Act and is limited to the following determinations:

a. The NCP was developed in accordance with the provisions and procedures of FAR part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport NCP are delineated in FAR part 150, section 150.5. Approval is not a determination concerning the acceptability of land uses under Federal, State, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the Chicago Airports District Office in Des Plaines, Illinois.

The Greater Rockford Airport Authority previously submitted an NCP in 1990 and a subsequent update in 1994. All 29 measures were approved in full, or withdrawn at the Airport Authority's request, by the FAA on August 2, 1995. Noise Exposure Maps (NEMs), as part of the 1994 NCP, were accepted by the FAA on January 31, 1995.

GRAA submitted comprehensive updates of the NCP to the FAA on April 22, 2003, which included the noise exposure maps, descriptions, and other documentation. The GRAA noise exposure maps were determined by FAA to be in compliance with applicable requirements on May 8, 2003. Notice of this determination was published in the Federal Register on May 20, 2003 (68 FR 27616).

The GRAA update contains a proposed NCP comprised of actions designed for phased implementation by airport management and adjacent jurisdictions from 2001 to April 2003. It was requested that the FAA evaluate and approve this material as a NCP as described in section 47504 of the Act. The FAA began its review of the program on May 8, 2003, and was required by a provision of the Act to approve or disapprove the program within 180 days. Failure to approve or disapprove such program within the 180-day period shall be deemed to be an approval of such program.

The NCP lists 37 recommended measures, which continue or expand the intent of the two previously approved NCPs. The FAA groups these measures into three categories: noise abatement (16), land use (15) and other measures (6). The GRAA recommends 37 measures in this updated NCP to remedy existing noise problems and prevent future non-compatible land uses. Of the 16 noise abatement measures, six measures continue from the 1994 NCP without revisions, five measures were continued with revisions, three measures have either been previously withdrawn or are recommended for withdrawal, and two measures are new. Of the 15 land use measures, two measures are continued with modifications, six measures have either been previously withdrawn or are recommended for withdrawal and two of the measures are new.

Of the six other measures, two measures continue from the 1994 NCP, one measure is continued with revisions, and three of the measures are new.

The FAA completed its review and determined that the procedural and substantive requirements of the Act and FAR Part 150 have been satisfied. The overall program, therefore, was approved by the FAA effective November 3, 2003.

These determinations are set forth in detail in a Record of Approval signed by the Woodie Woodward, Associate Administrator for Airports, on November 3, 2003. The Record of Approval, as well as other evaluation materials and the documents comprising the submittal, are available for review at the FAA office listed above and at the administrative offices of the Greater Rockford Airport.

Issued in Des Plaines, Illinois on December 29, 2003.
Chad Oliver,
Acting Manager, Chicago Airports District Office, FAA, Great Lakes Region.

[FR Doc. 04-390 Filed 1-8-04; 8:45 am]

BILLING CODE 4910-13-M